DEPARTMENT OF ENERGY

Oak Ridge Operations Office; Certification of the Radiological Condition of the Former Baker Brothers Site in Toledo, Ohio, and Ottawa Lake Vicinity Property in Ottawa Lake, Michigan, 1994 and 1995

AGENCY: Department of Energy (DOE), Oak Ridge Operations (ORO) Office of Environmental Management.

ACTION: Notice of certification.

SUMMARY: The Department of Energy has completed remedial actions to decontaminate the former Baker Brothers Site in Toledo, Ohio, and associated vicinity property in Ottawa Lake, Michigan. Formerly, the properties were found to contain quantities of residual radioactive material resulting from activities conducted by DOE or its predecessors at the former Baker Brothers, Inc., company. Based on the analysis of all data collected, DOE has concluded that any residual radiological contamination remaining onsite at the conclusion of DOE's remedial action falls within radiological guidelines in effect at the conclusion of such remedial action.

ADDRESSES: The certification docket is available at the following locations:

U.S. Department of Energy, Public Reading Room, Room 1E-190, Forrestal Building, 1000 Independence Avenue, S.W., Washington, D.C. 20585

U.S. Department of Energy, Public Reading Room, Oak Ridge Operations Office, 200 Administration Road, Oak Ridge, Tennessee 37831

Toledo-Lucas County Public Library, Kent Branch, 3101 Collingwood Boulevard, Toledo, Ohio 43610

Office of the Whiteford Township Clerk, 5063 Consear Road, Ottawa Lake, Michigan 49267

FOR FURTHER INFORMATION CONTACT: Robert G. Atkin, Project Engineer, Office of Assistant Manager for Environmental Management, Oak Ridge Operations Office, U.S. Department of Energy, P.O. Box 2001, Oak Ridge, Tennessee 37831, (865) 576-1826 Fax: (865) 574-4724.

SUPPLEMENTARY INFORMATION: The DOE, ORO Office of Environmental Management, has conducted remedial actions at the former Baker Brothers site in Toledo, Ohio, and associated vicinity property in Ottawa Lake, Michigan, under the Formerly Utilized Sites Remedial Action Program (FUSRAP). The objective of the program is to identify and remediate or otherwise control sites where residual radioactive contamination remains from activities carried out under contract to the Manhattan Engineer District/Atomic Energy Commission (MED/AEC) during the early years of the nation's atomic energy program.

In October 1997, the U.S. Congress assigned responsibility for management of the program to the U.S. Army Corps of Engineers (USACE). Completion of the Certification process was delayed pending preparation of a Memorandum of Understanding between the DOE and USACE with regard to completed, remediated sites such as Baker Brothers and its vicinity property. The Memorandum of Understanding between the U.S. DOE and the U.S. Army Corps of Engineers Regarding Program Administration and Execution of the Formerly Utilized Sites Remedial Action Program was signed by the parties in March 1999. Funding to proceed with the completion of DOE closure documentation for several FUSRAP sites, including Baker Brothers, was obtained from USACE in late 2000.

During the early and mid-1940s, Baker Brothers, Inc., machined natural (neither enriched nor depleted) uranium metal slugs from processed uranium metals under subcontract to MED for both Clinton Semi-Works in East Tennessee and the Hanford nuclear reactor complex in Washington State. The amount of material machined by Baker Brothers has been estimated from historical documents at 90 to 300 tons.

After the subcontract termination in 1944, the Baker Brothers property was decontaminated to comply with guidelines in effect at the time. Because the Baker Brothers uranium metal machining was related to AEC activities, a preliminary survey of existing conditions was conducted in 1989 by members of the Measurement Applications and Development Group at the Oak Ridge National Laboratory (ORNL) at the request of DOE. Results of that survey indicated localized areas of residual uranium contamination above the current guidelines. Consequently, the former Baker Brothers property was resurveyed in September 1992 and recommended for inclusion in FUSRAP. In November 1992, the former Baker Brothers site and Ottawa Lake vicinity property were designated for cleanup under FUSRAP.

In 1944, when the Baker Brothers assets were liquidated, the machinery and equipment were sold at a public auction, and the property was divided and sold to two independent interests. The northern part of the property was resold in the summer of 1992. The new owner of this portion of the property contacted ORNL and inquired about the radiological status of the property. Through this conversation ORNL learned that soil and debris potentially contaminated with residual uranium from the former Baker Brothers site had been moved to 4400 Piehl Road in Ottawa Lake, Michigan, for use as fill material.

A 1992 ORNL radiological investigation of the former Baker Brothers site revealed that 90 to 100 dump-truck loads of potentially contaminated soils and debris had been used for fill material at 4400 Piehl Road, Ottawa Lake, Michigan. The residential property (the Ottawa Lake site) was then added to FUSRAP as a vicinity property of the former Baker Brothers site that potentially contained residual uranium materials. DOE conducted remedial actions at the former Baker Brothers site from April 1995 to September 1995 and at the Ottawa Lake property from October 1994 to January 1995.

Post-remedial action surveys conducted in 1994 and 1995 have demonstrated and DOE has certified that the subject properties are in compliance with the Department's radiological decontamination criteria and standards in effect at the conclusion of the remedial action. The standards are established to protect members of the general public and occupants of the properties and to ensure that future use of the properties will result in no radiological exposure above then applicable guidelines. These findings are supported by DOE's Certification Docket for the Remedial Action Performed at the Former Baker Brothers, Inc., Site and Ottawa Lake Vicinity Property. DOE makes no representation regarding the condition of the subject properties as a result of activities conducted subsequent to DOE's post-remedial action surveys.

The Certification docket will be available for review between 9:00 a.m. and 4:00 p.m., Monday through Friday (except federal holidays) in the Department's Public Reading Room located in Room 1E-190 of the Forrestal Building, 1000 Independence Avenue, S.W., Washington, D.C. 20585. Copies of the certification docket also will be available in the DOE Public Reading Room, U.S. Department of Energy, Oak Ridge Operations Office, Oak Ridge, Tennessee 37831; at the Toledo-Lucas County Public Library, Kent Branch, 3101 Collingwood Boulevard, Toledo, Ohio 43610; and at the Office of the Whiteford Township Clerk, 5063 Consear Road, Ottawa Lake, Michigan 49267.

DOE, through the Oak Ridge Operations Office of Environmental Management, Oak Ridge Reservation Remediation Management Group, has issued the following statements:

Statement of Certification: Former Baker Brothers Site (Romanoff Property)

The Department of Energy (DOE), Oak Ridge Operations (ORO) Office of Environmental Management, Oak Ridge Reservation (ORR) Remediation Management Group, has reviewed and analyzed the radiological data obtained following remedial action at the former Baker Brothers, Inc., site (parcels identified as Nos. 24, 25, and 26 in the Detroit Avenue Addition, as derived from Deed Book 2091, Page 89 and Document 16005, Microfiche 92-479B01 in the records of Lucas County, Ohio). Based on analysis of all data collected, including post-remedial action surveys, DOE certifies that any residual contamination remaining onsite at the time remedial actions were completed falls within the guidelines, in effect at the conclusion of remedial action, for use of the site without radiological restrictions. This certification of compliance provides assurance that reasonably foreseeable future use of the property will result in no radiological exposure above radiological guidelines, in effect at the conclusion of the remedial action, for protecting members of the general public as well as occupants of the site.

Property owned by: Richard B. Romanoff and Jack Romanoff, Jr., P.O. Box 699, Toledo, Ohio 43697

Statement of Certification: Former Baker Brothers Site (Beat Property)

The Department of Energy (DOE), Oak Ridge Operations (ORO) Office of Environmental Management, Oak Ridge Reservation (ORR) Remediation Management Group, has reviewed and analyzed the radiological data obtained following remedial action at the former Baker Brothers, Inc. site (parcel identified as No. 40 in the Detroit Avenue Addition, in Deed Book 5145, page 95-154C12, in the records of Lucas County, Ohio). Based on analysis of all data collected, including post-remedial action surveys, DOE certifies that any residual contamination remaining onsite at the time remedial actions were completed falls within the guidelines, in effect at the conclusion of remedial action, for use of the site without radiological restrictions. This certification of compliance provides assurance that reasonably foreseeable future use of the property will result in no radiological exposure above radiological guidelines, in effect at the conclusion of the remedial action, established to protect members of the general public as well as occupants of the site.

Property owned by: Douglas N. Beat, and Patricia S. Beat 2940 Spring Water Drive, Toledo, Ohio 43617

Statement of Certification: Former Baker Brothers Site Ottawa Lake Vicinity Property

The Department of Energy (DOE), Oak Ridge Operations (ORO) Office of Environmental Management, Oak Ridge Reservation (ORR) Remediation Management Group, has reviewed and analyzed the radiological data obtained following remedial action at the Ottawa Lake vicinity property (Parcel No. 5815-013-006-40 filed in Deed Book 1000, Page 564 in the records of Monroe County, Michigan). Based on analysis of all data collected, including post-remedial action surveys, DOE certifies that any residual contamination remaining onsite at the time remedial actions were completed falls within the guidelines, in effect at the conclusion of remedial action, for use of the property without radiological restrictions. This certification of compliance provides assurance that reasonably foreseeable future use of the property will result in no radiological exposure above radiological guidelines, in effect at the conclusion of the remedial action, for protecting members of the general public as well as occupants of the site.

Property owned by: Frank Vitale and Janet L. Vitale, 4400 Piehl Road, Ottawa Lake, Michigan 49267-9731

Issued in Oak Ridge, Tennessee, on August 15, 2001.
William M. Seay,
Group Leader, ORR Remediation Management Group.

[FR Doc. 01-21570 Filed 8-24-01; 8:45 am]

BILLING CODE 6450-01-P